DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of two individuals that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On June 15, 2022, OFAC determined that the property and interests in property subject to U.S. jurisdiction of the following persons are blocked under the relevant sanctions authority listed below.

Individuals

1. SHEVCHUK, Stanislav (a.k.a. SHEVCHUK, Stanislav Anatolevich), Ul Asanalieva 8 24, Minsk, Belarus; Spain; DOB 19 Aug 1974; POB Ukraine; nationality Ukraine; Gender Male; Secondary sanctions risk: section 1(b) of Executive Order 13224, as amended by Executive Order 13886; Passport FB990310 (Ukraine); Identification Number 1974081900757 (Ukraine) (individual) [SDGT] (Linked To: RUSSIAN IMPERIAL MOVEMENT).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having acted or purported to act for or on behalf of, directly or indirectly, the RUSSIAN IMPERIAL MOVEMENT, a person whose property and interests in property are blocked pursuant to E.O. 13224, as amended.

2. ZHUCHKOVSKY, Alexander (a.k.a. ZHUCHKOVSKIY, Aleksander; a.k.a. ZHUCHKOVSKIY, Alexander Grigorevich; a.k.a. ZHUCHKOVSKIY, Alexandr; a.k.a. ZHUCHKOVSKY, Alexandr), Voronezhskaya Dom 62 10, Saint Petersburg 190000, Russia; Ul Voronezhskaya D 62 KV 10, Saint Petersburg 658000, Russia; Profinterna 12 3, Rostov Na Donu 344000, Russia; DOB 09 Sep 1986; POB Russia; nationality Russia; Gender Male; Secondary sanctions risk: section 1(b) of Executive Order 13224, as amended by Executive Order 13886; Passport 4014075407 (Russia); alt. Passport 4009930376 (Russia); Tax ID No. 781697836992 (Russia); Government Gazette Number 2187800076825 (Russia) (individual) [SDGT] (Linked To: RUSSIAN IMPERIAL MOVEMENT).

Designated pursuant to section 1(a)(iii)(C) of E.O. 13224, as amended, for having materially assisted, sponsored, or provided financial, material, or technological support for, or goods or services to or in support of, the RUSSIAN IMPERIAL MOVEMENT, a person whose property and interests in property are blocked pursuant to E.O. 13224, as amended.

Dated: June 15, 2022.
Andrea M. Gacki,
Director, Office of Foreign Assets Control, U.S. Department of the Treasury.

[FR Doc. 2022-13316 Filed 6-21-22; 8:45 am]

BILLING CODE 4810-AL-P